DEPARTMENT OF COMMERCE

International Trade Administration

[A-533-840]

Certain Frozen Warmwater Shrimp From India: Final Results of Antidumping Duty Administrative Review and Final Determination of No Shipments; 2018-2019

AGENCY: Enforcement and Compliance, International Trade Administration, Department of Commerce.

SUMMARY: The Department of Commerce (Commerce) determines that producers and/or exporters of certain frozen warmwater shrimp (shrimp) from India made sales at less than normal value during the period of review (POR), February 1, 2018 through January 31, 2019.

DATES: Applicable December 29, 2020.

FOR FURTHER INFORMATION CONTACT: Brittany Bauer or Benjamin Luberda, AD/CVD Operations, Office II, Enforcement and Compliance, International Trade Administration, U.S. Department of Commerce, 1401 Constitution Avenue NW, Washington, DC 20230; telephone: (202) 482-3860 or (202) 482-2185, respectively.

SUPPLEMENTARY INFORMATION:

Background

This administrative review covers 183 producers and/or exporters of the subject merchandise. Commerce selected two mandatory respondents for individual examination: Razban Seafoods Ltd. (Razban) and ZA Sea Foods Pvt. Ltd. (ZA Sea Foods). The producers/exporters not selected for individual examination are listed in the “Final Results of the Review” section of this notice.

On March 6, 2020, Commerce published the Preliminary Results.¹ On April 10, 2020, we received a case brief from ZA Sea Foods and seven other Indian shrimp producers. On April 17, 2020, we received rebuttal briefs from the petitioner and the American Shrimp Processors Association.²

¹ See Certain Frozen Warmwater Shrimp from India: Preliminary Results of Antidumping Duty Administrative Review; 2018-2019, 85 FR 13131 (March 6, 2020) (Preliminary Results).

² The petitioner is the Ad Hoc Shrimp Trade Action Committee.

On April 24, 2020, Commerce tolled all deadlines in administrative reviews by 50 days.³ On July 21, 2020, Commerce tolled all deadlines in administrative reviews by an additional 60 days.⁴ On October 7, 2020, Commerce extended the final results of this review by 60 days.⁵ The deadline for the final results of this review is now December 21, 2020.

³ See Memorandum, “Tolling of Deadlines for Antidumping and Countervailing Duty Administrative Reviews in Response to Operational Adjustments Due to COVID-19,” dated April 24, 2020.

⁴ See Memorandum, “Tolling of Deadlines for Antidumping and Countervailing Duty Administrative Reviews,” dated July 21, 2020.

⁵ See Memorandum, “Certain Frozen Warmwater Shrimp from India; 2018-2019 Administrative Review: Extension of Deadline for Final Results,” dated October 7, 2020.

Commerce conducted this administrative review in accordance with section 751 of the Tariff Act of 1930, as amended (the Act).

Scope of the Order

The merchandise subject to the order is certain frozen warmwater shrimp.⁶ The product is currently classified under the following Harmonized Tariff Schedule of the United States (HTSUS) item numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. Although the HTSUS numbers are provided for convenience and customs purposes, the written product description remains dispositive.

⁶ For a complete description of the Scope of the Order, see Memorandum, “Issues and Decision Memorandum for the Final Results of the 2018-2019 Antidumping Duty Administrative Review of Certain Frozen Warmwater Shrimp from India,” dated concurrently with, and hereby adopted by, this notice (IDM).

Analysis of Comments Received

All issues raised in the case and rebuttal briefs are listed in Appendix I to this notice and addressed in the IDM. Parties can find a complete discussion of these issues and the corresponding recommendations in this public memorandum, which is on file electronically via Enforcement and Compliance's Antidumping and Countervailing Duty Centralized Electronic Service System (ACCESS). ACCESS is available to registered users at http://access.trade.gov. In addition, a complete version of the IDM can be accessed directly at http://enforcement.trade.gov/frn/index.html. The signed Issues and Decision Memorandum and the electronic version of the Issues and Decision Memorandum are identical in content.

Changes Since the Preliminary Results

Based on a review of the record and comments received from interested parties regarding our Preliminary Results, we made certain changes to the preliminary weighted-average margin calculations for ZA Sea Foods and for those companies not selected for individual review.⁷

⁷ See accompanying IDM.

Final Results of the Review

We are assigning the following dumping margins to the firms listed below for the POR, February 1, 2018 through January 31, 2019:

Producers/exporters | Weighted- average dumping margin (percent)
ZA Sea Foods Pvt. Ltd | 3.06
Companies Receiving a Review-Specific Average Rate ⁸ | 3.06

We intend to disclose the calculations performed within five days of the date of publication of this notice to parties in this proceeding, in accordance with 19 CFR 351.224(b).

⁸ See Appendix II.

Final Determination of No Shipments

In the Preliminary Results, Commerce determined that Razban made no shipments of the subject merchandise during the POR. As we have not received any information to contradict our preliminary finding, we continue to find that Razban did not have any shipments of subject merchandise during the POR and intend to issue appropriate instructions to U.S. Customs and Border Protection (CBP) based on the final results of this review.

Assessment Rates

Pursuant to section 751(a)(2)(C) of the Act, and 19 CFR 351.212(b)(1), Commerce has determined, and CBP shall assess, antidumping duties on all appropriate entries of subject merchandise in accordance with the final results of this review.

Pursuant to 19 CFR 351.212(b)(1), because ZA Sea Foods reported the entered value for all its U.S. sales, we calculated importer-specific ad valorem duty assessment rates based on the ratio of the total amount of antidumping duties calculated for the examined sales to the total entered value of the sales for which entered value was reported. Where the respondent's weighted-average dumping margin is zero or de minimis within the meaning of 19 CFR 351.106(c)(1), or an importer-specific rate is zero or de minimis, we will instruct CBP to liquidate the appropriate entries without regard to antidumping duties.

Further, because we continue to find in these final results that Razban had no shipments of subject merchandise during the POR, we will instruct CBP to liquidate any suspended entries that entered under its antidumping duty case number (i.e., at the exporter's rate) at the all-others rate if there is no rate for the intermediate company(ies) involved in the transaction.

For the companies that were not selected for individual examination, we used, as the assessment rate, the cash deposit rate assigned to ZA Sea Foods, in accordance with our practice.⁹

⁹ See, e.g., Certain Frozen Warmwater Shrimp from India: Final Results of Antidumping Duty Administrative Review; 2016-2017, 83 FR 32835 (July 16, 2018).

Commerce's “reseller policy” will apply to entries of subject merchandise during the POR produced by companies included in these final results of review for which the reviewed companies did not know that the merchandise they sold to the intermediary (e.g., a reseller, trading company, or exporter) was destined for the United States. In such instances, we will instruct CBP to liquidate unreviewed entries at the all-others rate if there is no rate for the intermediate company(ies) involved in the transaction.¹⁰

¹⁰ For a full discussion of this practice, see Antidumping and Countervailing Duty Proceedings: Assessment of Antidumping Duties, 68 FR 23954 (May 6, 2003).

Commerce intends to issue assessment instructions to CBP 15 days after the date of publication of these final results of review.

Cash Deposit Requirements

The following cash deposit requirements will be effective for all shipments of subject merchandise entered, or withdrawn from warehouse, for consumption on or after the publication date of the final results of this administrative review, as provided by section 751(a)(2)(C) of the Act: (1) The cash deposit rates for the reviewed companies will be the rates shown above, except if the rate is less than 0.50 percent (de minimis within the meaning of 19 CFR 351.106(c)(1)), the cash deposit will be zero; (2) for previously reviewed or investigated companies not listed above, the cash deposit rate will continue to be the company-specific rate published for the most recent period; (3) if the exporter is not a firm covered in this review, a previous review, or the original investigation, but the manufacturer is, the cash deposit rate will be the rate established for the most recent period for the manufacturer of the merchandise; and (4) the cash deposit rate for all-other manufacturers or exporters will continue to be 10.17 percent, the all-others rate established in the investigation.¹¹ These deposit requirements, when imposed, shall remain in effect until further notice.

¹¹ See Notice of Amended Final Determination of Sales at Less Than Fair Value and Antidumping Duty Order: Certain Frozen Warmwater Shrimp from India, 70 FR 5147, 5148 (February 1, 2005).

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Administrative Protective Order

This notice serves as the only reminder to parties subject to administrative protective order (APO) of their responsibility concerning the return or destruction of proprietary information disclosed under the APO in accordance with 19 CFR 351.305(a)(3), which continues to govern business proprietary information in this segment of the proceeding. Timely written notification of the return or destruction of APO materials or conversion to judicial protective order is hereby requested. Failure to comply with the regulations and terms of an APO is a sanctionable violation.

Notification to Interested Parties

We are issuing and publishing this notice in accordance with sections 751(a)(1) and 777(i) of the Act and 19 CFR 351.221(b)(5).

Dated: December 21, 2020.
Jeffrey I. Kessler,
Assistant Secretary for Enforcement and Compliance.

Appendix I

List of Topics Discussed in the IDM

I. Summary

II. Background

III. Scope of the Order

IV. Discussion of the Issues

Comment 1: Differential Pricing Time Periods

Comment 2: Use of Third-Country Sales as a Comparison Market

Comment 3: Methodology for Constructed Value Profit and Selling Expenses

Comment 4: Names in Customs Instructions

V. Recommendation

Appendix II

Review-Specific Average Rate Applicable to the Following Companies: ¹²

Producers/exporters | Weighted- average dumping margin (percent)
Abad Fisheries | 3.06
Albys Agro Private Limited | 3.06
Allana Frozen Foods Pvt. Ltd | 3.06
Allanasons Ltd | 3.06
Amarsagar Seafoods Private Limited | 3.06
AMI Enterprises | 3.06
Amulya Seafoods | 3.06
Anatha Seafoods Private Limited | 3.06
Angelique International Ltd | 3.06
Ayshwarya Seafood Private Limited | 3.06
B R Traders | 3.06
Baby Marine Eastern Exports | 3.06
Baby Marine Exports | 3.06
Baby Marine International | 3.06
Baby Marine Sarass | 3.06
Baby Marine Ventures | 3.06
Balasore Marine Exports Private Limited | 3.06
Bell Exim Private Limited (Bells Foods (Marine Division)) | 3.06
Bhatsons Aquatic Products | 3.06
Bhavani Seafoods | 3.06
Bijaya Marine Products | 3.06
Blue Fin Frozen Foods Pvt. Ltd | 3.06
Blue Water Foods & Exports P. Ltd | 3.06
B-One Business House Pvt. Ltd | 3.06
Britto Seafood Exports Pvt Ltd | 3.06
Canaan Marine Products | 3.06
Capithan Exporting Co | 3.06
Cargomar Private Limited | 3.06
Chakri Fisheries Private Limited | 3.06
Chemmeens (Regd) | 3.06
Cherukattu Industries (Marine Div) | 3.06
Cochin Frozen Food Exports Pvt. Ltd | 3.06
Continental Fisheries India Private Limited | 3.06
Coreline Exports | 3.06
Corlim Marine Exports Pvt. Ltd | 3.06
Crystal Sea Foods Private Limited | 3.06
D2 D Logistics Private Limited | 3.06
Damco India Private | 3.06
Delsea Exports Pvt. Ltd | 3.06
Devi Sea Foods Limited ¹³ | 3.06
Entel Food Products Private Limited | 3.06
Esmario Export Enterprises | 3.06
Everblue Sea Foods Private Limited | 3.06
Exporter Coreline Exports | 3.06
Febin Marine Foods | 3.06
Five Star Marine Exports Private Limited | 3.06
Forstar Frozen Foods Pvt. Ltd | 3.06
Fouress Food Products Private Limited | 3.06
Frontline Exports Pvt. Ltd | 3.06
G A Randerian Ltd | 3.06
Gadre Marine Exports | 3.06
Galaxy Maritech Exports P. Ltd | 3.06
Geo Aquatic Products (P) Ltd | 3.06
Goodwill Enterprises | 3.06
Grandtrust Overseas (P) Ltd | 3.06
Green House Agro Products | 3.06
GVR Exports Pvt. Ltd | 3.06
Hari Marine Private Limited | 3.06
Haripriya Marine Export Pvt. Ltd | 3.06
Harmony Spices Pvt. Ltd | 3.06
HIC ABF Special Foods Pvt. Ltd | 3.06
Hindustan Lever, Ltd | 3.06
Hiravata Ice & Cold Storage | 3.06
Hiravati Exports Pvt. Ltd | 3.06
Hiravati International Pvt. Ltd. (located at APM-Mafco Yard, Sector-18, Vashi, Navi, Mumbai-400 705, India) | 3.06
Hiravati International Pvt. Ltd. (located at Jawar Naka, Porbandar, Gujarat, 360 575, India) | 3.06
Hiravati Marine Products Private Limited | 3.06
HN Indigos Private Limited | 3.06
Hyson Logistics and Marine Exports Private Limited | 3.06
Indian Aquatic Products | 3.06
Indo Aquatics | 3.06
Indo Fisheries | 3.06
Indo French Shellfish Company Private Limited | 3.06
Innovative Foods Limited | 3.06
International Freezefish Exports | 3.06
Interseas | 3.06
Jinny Marine Traders | 3.06
Jiya Packagings | 3.06
Kalyanee Marine | 3.06
Kanch Ghar | 3.06
Karunya Marine Exports Private Limited | 3.06
Kaushalya Aqua Marine Product Exports Pvt. Ltd | 3.06
Kay Exports | 3.06
Kings Marine Products | 3.06
Koluthara Exports Ltd | 3.06
Landauer Ltd | 3.06
Libran Cold Storages (P) Ltd | 3.06
Magnum Export | 3.06
Malabar Arabian Fisheries | 3.06
Malnad Exports Pvt. Ltd | 3.06
Mangala Sea Products | 3.06
Marine Harvest India | 3.06
Meenaxi Fisheries Pvt. Ltd | 3.06
Megaa Moda Pvt. Ltd | 3.06
Milsha Agro Exports Private Limited | 3.06
Mourya Aquex Pvt. Ltd | 3.06
MTR Foods | 3.06
N.C. John & Sons (P) Ltd | 3.06
Naik Frozen Foods | 3.06
Naik Oceanic Exports Pvt. Ltd./Rafiq Naik Exports Pvt. Ltd.¹⁴ | 3.06
Naik Seafoods Ltd | 3.06
Nekkanti Mega Food Park Private Limited | 3.06
Nine Up Frozen Foods | 3.06
Nutrient Marine Foods Limited | 3.06
Oceanic Edibles International Limited | 3.06
Paragon Sea Foods Pvt. Ltd | 3.06
Paramount Seafoods | 3.06
Parayil Food Products Pvt., Ltd | 3.06
Pesca Marine Products Pvt., Ltd | 3.06
Pijikay International Exports P Ltd | 3.06
Pisces Seafoods International | 3.06
Pravesh Seafood Private Limited | 3.06
Premier Exports International | 3.06
Premier Marine Foods | 3.06
Premier Seafoods Exim (P) Ltd | 3.06
R F Exports | 3.06
R V R Marine Products Limited | 3.06
Raa Systems Pvt. Ltd | 3.06
Raju Exports | 3.06
Raunaq Ice & Cold Storage | 3.06
Raysons Aquatics Pvt. Ltd | 3.06
RBT Exports | 3.06
RDR Exports | 3.06
RF Exports Private Limited | 3.06
Riviera Exports Pvt. Ltd | 3.06
Rohi Marine Private Ltd | 3.06
Royal Imports and Exports | 3.06
RSA Marines | 3.06
S & S Seafoods | 3.06
S Chanchala Combines | 3.06
Safa Enterprises | 3.06
Sagar Foods | 3.06
Sagar Samrat Seafoods | 3.06
Sagravihar Fisheries Pvt. Ltd | 3.06
Salvam Exports (P) Ltd | 3.06
Samaki Exports Private Limited | 3.06
Sanchita Marine Products P Limited | 3.06
Santhi Fisheries & Exports Ltd | 3.06
Sarveshwari Exp | 3.06
Sea Foods Private Limited | 3.06
Sea Gold Overseas Pvt. Ltd | 3.06
Selvam Exports Private Limited | 3.06
Sharma Industries | 3.06
Shimpo Exports Private Limited | 3.06
Shimpo Seafoods Private Limited | 3.06
Shiva Frozen Food Exp. Pvt. Ltd | 3.06
Shroff Processed Food & Cold Storage P Ltd | 3.06
Silver Seafood | 3.06
Sita Marine Exports | 3.06
Sowmya Agri Marine Exports | 3.06
Sri Sakkthi Cold Storage | 3.06
Sri Venkata Padmavathi Marine Foods Pvt. Ltd | 3.06
Srikanth International ¹⁵ | 3.06
SSF Ltd | 3.06
Star Agro Marine Exports Private Limited | 3.06
Star Organic Foods Incorporated | 3.06
Star Organic Foods Private Limited | 3.06
Stellar Marine Foods Private Limited | 3.06
Sterling Foods | 3.06
Sun Agro Exim | 3.06
Sun-Bio Technology Ltd | 3.06
Supran Exim Private Limited | 3.06
Suvarna Rekha Exports Private Limited | 3.06
Suvarna Rekha Marine P Ltd | 3.06
TBR Exports Pvt Ltd | 3.06
Teekay Marine P. Ltd | 3.06
The Waterbase Limited | 3.06
Triveni Fisheries P. Ltd | 3.06
U & Company Marine Exports | 3.06
Ulka Sea Foods Private Limited | 3.06
Uniroyal Marine Exports Ltd | 3.06
Unitriveni Overseas | 3.06
V.S Exim Pvt Ltd | 3.06
Vasai Frozen Food Co | 3.06
Veejay Impex | 3.06
Veronica Marine Exports Private Limited | 3.06
Victoria Marine & Agro Exports Ltd | 3.06
Vinner Marine | 3.06
Vitality Aquaculture Pvt. Ltd | 3.06
VRC Marine Foods LLP | 3.06
Zeal Aqua Limited | 3.06

¹² Because we only had one respondent with a calculated rate, this rate is used for the review-specific rate.

¹³ Shrimp produced and exported by Devi Sea Foods Limited (Devi) was excluded from the order effective February 1, 2009. See Certain Frozen Warmwater Shrimp from India: Final Results of the Antidumping Duty Administrative Review, Partial Rescission of Review, and Notice of Revocation of Order in Part, 75 FR 41813, 41814 (July 19, 2010). Accordingly, we initiated this administrative review with respect to Devi only for shrimp produced in India where Devi acted as either the manufacturer or exporter (but not both).

¹⁴ In past reviews, Commerce has treated these companies as a single entity. See, e.g., Certain Frozen Warmwater Shrimp from India: Final Results of Antidumping Duty Administrative Review; 2016-2017, 83 FR 32835 (July 16, 2018). Absent information to the contrary, we continue to treat these companies as a single entity for purposes of this administrative review.

¹⁵ On August 27, 2010, Srikanth International was found to be the successor-in-interest to NGR Aqua International. See Certain Warmwater Shrimp from India: Final Results of Antidumping Duty Changed Circumstances Review, 75 FR 52718 (August 27, 2010). Therefore, we did not initiate a separate administrative review with respect to NGR Aqua International.

[FR Doc. 2020-28753 Filed 12-28-20; 8:45 am]

BILLING CODE 3510-DS-P